FEDERAL DEPOSIT INSURANCE CORPORATION

Sunshine Act Meetings

TIME AND DATE: 2:30 p.m. on May 20, 2025.

PLACE: This Board meeting will be open to public observation by webcast. Visit https://www.fdic.gov/news/board-matters/video.html for a link to the webcast. Members of the media should contact the Office of Communications by Monday, May 19, at mediarequests@fdic.gov to attend in person. FDIC Board Members and staff will participate from FDIC Headquarters, 550 17th Street NW, Washington, DC.

Observers requiring auxiliary aids (e.g., sign language interpretation) should email DisabilityProgram@fdic.gov to make necessary arrangements.

STATUS: Open to public observation via webcast.

MATTERS TO BE CONSIDERED: The Federal Deposit Insurance Corporation's (FDIC) Board of Directors will meet to consider the following matters:

Discussion Agenda

Deposit Insurance Fund Restoration Plan Semiannual Update.

Summary Agenda

No substantive discussion of the following items is anticipated. The Board of Directors will resolve these matters with a single vote unless a member of the Board requests that an item be moved to the discussion agenda.

Rescission of the 2024 FDIC Statement of Policy on Bank Merger Transactions and Reinstatement of Prior FDIC Statement of Policy.

Minutes of a Board of Directors' Meeting and Memorandum of Action Previously Distributed.

Summary reports, status reports, and reports of actions taken pursuant to authority delegated by the Board of Directors.

CONTACT PERSON FOR MORE INFORMATION: For further information, please contact Debra A. Decker, Executive Secretary, FDIC, at FDICBoardMatters@fdic.gov.

Authority: 5 U.S.C. 552b.

Dated at Washington, DC, on May 13, 2025.
Federal Deposit Insurance Corporation.
Jennifer M. Jones,
Deputy Executive Secretary.

[FR Doc. 2025-09114 Filed 5-16-25; 4:15 pm]

BILLING CODE 6714-01-P